DEPARTMENT OF ENERGY

Federal Energy Regulatory Commission

[Project No. 2531-075]

Brookfield White Pine Hydro LLC; Notice of Application Tendered for Filing With the Commission and Establishing Procedural Schedule for Licensing and Deadline for Submission of Final Amendments

Take notice that the following hydroelectric application has been filed with the Commission and is available for public inspection.

a. Type of Application: New Major License.

b. Project No.: 2531-075.

c. Date Filed: December 18, 2015.

d. Applicant: Brookfield White Pine Hydro LLC (White Pine Hydro).

e. Name of Project: West Buxton Hydroelectric Project.

f. Location: The existing project is located on the Saco River in the Towns of Buxton, Hollis, and Standish, within York and Cumberland Counties, Maine. No federal lands are occupied by project works or located within the project boundary.

g. Filed Pursuant to: Federal Power Act, 16 U.S.C. 791(a)-825(r).

h. Applicant Contact: Frank Dunlap, Licensing Specialist, Brookfield White Pine Hydro LLC, 150 Main Street, Lewiston, ME 04240; Telephone—(207) 755-5603; Email—Frank.Dunlap@BrookfieldRenewable.com. OR Kelley Maloney, Manager of licensing and Compliance, Brookfield White Pine Hydro LLC, 150 Maine Street, Lewiston, ME 04240; Telephone—(207) 755-5606.

i. FERC Contact: Allan Creamer, (202) 502-8365, or allan.creamer@ferc.gov.

j. This application is not ready for environmental analysis (EA) at this time.

k. Project Description: The West Buxton Project consists of: (1) A 585-foot-long by 30-foot-high concrete gravity dam with a crest elevation of 173.8 feet (United States Geological Survey or USGS datum), consisting of (i) two overflow sections topped with three inflatable rubber dam sections that have a crest elevation of 178.1 feet (USGS datum) when fully inflated, (ii) a gated section containing a 20-foot-wide by 15-foot-high vertical lift gate, (iii) two 40-foot-wide by 11-foot-high stanchion sections, (iv) an 11-foot-wide log sluice section, and (v) an intake structure comprised of two vertical lift gates regulating the flow of water to the lower powerhouse and five gate openings (two sealed by stoplogs) controlling water flow to the upper powerhouse; (2) a 118-acre impoundment at a normal pool elevation of 177.8 feet (USGS datum); (3) a 105 feet long by 39 feet wide upper powerhouse integral with the dam, containing five horizontal axis Francis turbine generating units that total 3,812 kW; (4) a 241.5-foot-long concrete conduit leading from the intake structure to a 74-foot-long by 30 to 45-foot wide surge chamber, and then to the lower powerhouse; (5) a 51.2 feet long by 45.5 feet wide lower powerhouse, containing one 4,000 kW vertical axis Kaplan turbine generating unit; (6) two 38-kV transmission lines, connecting the upper and lower powerhouses to the non-project West Buxton switching station; and (7) appurtenant facilities.

White Pine Hydro operates the project in a run-of-river mode, in accordance with the 1997 Saco River Instream Flow Agreement, which provides that outflow approximate inflow from the upstream Bonny Eagle Project No. 2529 and act to minimize impoundment level fluctuations. White Pine Hydro also operates the project with a minimum outflow of 768 cfs, or inflow, whichever is less, in accordance with the project's current water quality certificate. The project generates an annual average of 34,007 MWh.

l. A copy of the application is available for review at the Commission in the Public Reference Room or may be viewed on the Commission's Web site at http://www.ferc.gov, using the “eLibrary” link. Enter the docket number excluding the last three digits in the docket number field to access the document. For assistance, contact FERC Online Support at FERCOnlineSupport@ferc.gov, (866)-208-3676 (toll free), or (202) 502-8659 (TTY). A copy is also available for inspection and reproduction at the address in item (h) above.

You may also register online at http://www.ferc.gov/docs-filing/esubscription.asp to be notified via email of new filings and issuances related to this or other pending projects. For assistance, contact FERC Online Support.

m. Procedural Schedule: The application will be processed according to the following preliminary Hydro Licensing Schedule. Revisions to the schedule will be made as appropriate.

Notice of Acceptance/Notice of Ready for Environmental Analysis | February 2016.
Filing of recommendations, preliminary terms and conditions, and fishway prescriptions | April 2016.
Commission issues EA | August 2016.
Comments on EA | September 2016.
Modified Terms and Conditions | November 2016.
Commission Issues Final EA, if necessary | February 2017.

o. Final amendments to the application must be filed with the Commission no later than 30 days from the issuance date of the notice of ready for environmental analysis.

Dated: December 22, 2015.
Nathaniel J. Davis, Sr.,
Deputy Secretary.

[FR Doc. 2015-32696 Filed 12-28-15; 8:45 am]

BILLING CODE 6717-01-P